DEPARTMENT OF THE TREASURY

Office of Foreign Assets Control

31 CFR Chapter V

Blocked Persons, Specially Designated Nationals, Specially Designated Terrorists, Foreign Terrorist Organizations, and Specially Designated Narcotics Traffickers: Additional Designations of Specially Designated Narcotics Traffickers and Removal of Specially Designated National of Cuba

AGENCY: Office of Foreign Assets Control, Treasury.

ACTION: Amendment of final rule.

SUMMARY: The Treasury Department is amending appendix A to 31 CFR chapter V by adding the names of twenty-seven individuals and three entities who have been designated as specially designated narcotics traffickers. The entry for one individual previously designated as a specially designated national of Cuba is removed from appendix A.

EFFECTIVE DATE: May 23, 2001.

FOR FURTHER INFORMATION CONTACT: Office of Foreign Assets Control, Department of the Treasury, Washington, D.C. 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat7 readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

Appendix A to 31 CFR chapter V contains the names of blocked persons, specially designated nationals, specially designated terrorists, foreign terrorist organizations, and specially designated narcotics traffickers designated pursuant to the various economic sanctions programs administered by the Office of Foreign Assets Control (“OFAC”). Pursuant to Executive Order 12978 of October 21, 1995, “Blocking Assets and Prohibiting Transactions with Significant Narcotics Traffickers” (the “Order”) and Section 536.312 of the Narcotics Trafficking Sanctions Regulations, 31 CFR part 536 (the “Regulations”), the following 27 individuals and 3 entities are added to appendix A as persons who have been determined to play a significant role in international narcotics trafficking centered in Colombia, to materially assist in or provide financial support or technological support for, or goods or services in support of other specially designated narcotics traffickers, or to be owned or controlled by, or to act for or on behalf of, persons designated in or pursuant to the Order (collectively “Specially Designated Narcotics Traffickers” or “SDNTs”). All real and personal property in which the SDNTs have any interest, including but not limited to all accounts, that are or come within the United States or that are or come within the possession or control of U.S. persons, including their overseas branches, are blocked. All transactions by U.S. persons or within the United States in property or interests in property of SDNTs are prohibited unless licensed by the Office of Foreign Assets Control or exempted by statute.

The Office of Foreign Assets Control also is removing from appendix A the entry for one individual because it has been determined that the individual no longer meets the criteria for designation as a Specially Designated National of Cuba under the Cuban Assets Control Regulations, 31 CFR part 515. All real and personal property of this individual, including all accounts in which the individual has any interest, which had been blocked solely due to the individual's designation as a Specially Designated National of Cuba, are unblocked; and all lawful transactions involving U.S. persons and this individual are permissible.

Designations of foreign persons blocked pursuant to the Order are effective upon the date of determination by the Director of the Office of Foreign Assets Control, acting under authority delegated by the Secretary of the Treasury. Public notice of blocking is effective upon the date of filing with the Federal Register, or upon prior actual notice.

Because the Regulations involve a foreign affairs function, Executive Order 12866 and the provisions of the Administrative Procedure Act (5 U.S.C. 553), requiring notice of proposed rulemaking, opportunity for public participation, and delay in effective date, are inapplicable. Because no notice of proposed rulemaking is required for this rule, the Regulatory Flexibility Act (5 U.S.C. 601-612) does not apply.

For the reasons set forth in the preamble, and under the authority of 3 U.S.C. 301; 50 U.S.C. 1601-1651; 50 U.S.C. 1701-1706; E.O. 12978, 60 FR 54579, 3 CFR, 1995 Comp., p. 415, appendix A to 31 CFR chapter V is amended as set forth below:

Appendix A [Amended]

1. Appendix A to 31 CFR chapter V is amended by adding the following names inserted in alphabetical order, to read as follows:

ARMERO RIASCOS, Jose Eliecer, Carrera 5 No. 8-00, Buenaventura, Colombia; c/o INDUSTRIA DE PESCA SOBRE EL PACIFICO S.A., Buenaventura, Colombia; Cedula No. 16471549 (Colombia) (individual) [SDNT]

BUENDIA CUELLAR, Luis Alfonso, c/o GALAPAGOS S.A., Cali, Colombia; Cedula No. 6044411 (Colombia) (individual) [SDNT]

CAICEDO VERGARA, Nohemy,(a.k.a. CAICEDO VERGARA, Nohemi), Km. 4 El Pinal, Buenaventura, Colombia; c/o INDUSTRIA DE PESCA SOBRE EL PACIFICO S.A., Buenaventura, Colombia; Cedula No. 31375185 (Colombia) (individual) [SDNT]

DELGADO GUTIERREZ, Luis Alvaro, c/o TAURA S.A., Cali, Colombia; Cedula No. 16718474 (Colombia) (individual) [SDNT]

DUQUE BOTERO, Jorge Alirio, Calle 5 No. 5A-49, Buenaventura, Colombia; c/o INDUSTRIA DE PESCA SOBRE EL PACIFICO S.A., Buenaventura, Colombia; Cedula No. 616084 (Colombia) (individual) [SDNT]

ECHEVERRY HERRERA, Hernando,(a.k.a. ECHEVERRI HERRERA, Hernando), c/o INDUSTRIA DE PESCA SOBRE EL PACIFICO S.A., Buenaventura, Colombia; Cedula No. 1625525 (Colombia) (individual) [SDNT]

FOMEQUE BLANCO, Amparo, Mz. 21 Casa 5 Barrio San Fernando, Pereira, Colombia; c/o INDUSTRIA DE PESCA SOBRE EL PACIFICO S.A., Buenaventura, Colombia; Cedula No. 31206092 (Colombia) (individual) [SDNT]

FOMEQUE CAMPO, Deicy,(a.k.a. FOMEQUE CAMPO, Daysy), Avenida 4N No. 10N-100, Cali, Colombia; c/o INDUSTRIA DE PESCA SOBRE EL PACIFICO S.A., Buenaventura, Colombia; Cedula No. 38650034 (Colombia) (individual) [SDNT]

GALAPAGOS S.A., Calle 24N No. 6AN-15, Cali, Colombia; Carrera 115 No. 16B-121, Cali, Colombia; NIT # 800183712-2 (Colombia) [SDNT]

GARAVITO, Doris Amelia, c/o GALAPAGOS S.A., Cali, Colombia; Cedula No. 31233463 (Colombia) (individual) [SDNT]

GARCIA PIZARRO, Gentil Velez, c/o GALAPAGOS S.A., Cali, Colombia; Cedula No. 6616986 (Colombia) (individual) [SDNT]

GARCIA VARELA, Luis Fernando, c/o TAURA S.A., Cali, Colombia; Cedula No. 16282923 (Colombia) (individual) [SDNT]

GILMAN FRANCO, Maria, c/o TAURA S.A., Cali, Colombia; Cedula No. 22103099 (Colombia) (individual) [SDNT]

GONGORA ALARCON, Hernando, c/o TAURA S.A., Cali, Colombia; Cedula No. 19298944 (Colombia) (individual) [SDNT]

GUZMAN VELASQUEZ, Luz Marcela, c/o TAURA S.A., Cali, Colombia; Cedula No. 43568327 (Colombia) (individual) [SDNT]

HERNANDEZ, Oscar, Mz. 21 Casa 5 Barrio San Fernando, Pereira, Colombia; c/o TAURA S.A., Cali, Colombia; Cedula No. 6157940 (Colombia) (individual) [SDNT]

HERRAN SAAVEDRA, Victor Hugo, c/o GALAPAGOS S.A., Cali, Colombia; Cedula No. 16447166 (Colombia) (individual) [SDNT]

INDUSTRIA DE PESCA SOBRE EL PACIFICO S.A., (a.k.a. INPESCA S.A.), Km. 5 El Pinal, Buenaventura, Colombia; Av. Simon Bolivar Km. 5 El Pinal, Buenaventura, Colombia; NIT # 890302172-4 (Colombia) [SDNT]

MORALES CASTRILLON, Victor Hugo, c/o TAURA S.A., Cali, Colombia; Cedula No. 16620349 (Colombia) (individual) [SDNT]

MORENO DAZA, Ricardo Alfredo, Carrera 38D No. 4B-57, Cali, Colombia; c/o GALAPAGOS S.A., Cali, Colombia; c/o TAURA S.A., Cali, Colombia; Cedula No. 16631400 (Colombia) (individual) [SDNT]

PATIÑO FOMEQUE, Sonia Daysi,(a.k.a. PATIO FOMEQUE, Sonia Daicy), Calle 9 Oeste No. 25-106, Cali, Colombia; c/o INDUSTRIA DE PESCA SOBRE EL PACIFICO S.A., Buenaventura, Colombia; Cedula No. 66920533 (Colombia) (individual) [SDNT]

PATIÑO FOMEQUE, Victor Julio, (a.k.a. PATINO FOMEQUE, Victor Hugo), Avenida 4N No. 10N-100, Cali, Colombia; 6 c/o INDUSTRIA DE PESCA SOBRE EL PACIFICO S.A., Buenaventura, Colombia; c/o TAURA S.A., Cali, Colombia; c/o GALAPAGOS S.A., Cali, Colombia; DOB 31 Jan 1959; Cedula No. 16473543 (Colombia)(individual) [SDNT]

PATIÑO NARANJO, Joaquin Gustavo, Avenida 4N No. 10N-100, Cali, Colombia; c/o INDUSTRIA DE PESCA SOBRE EL PACIFICO S.A., Buenaventura, Colombia; Cedula No. 2730245 (Colombia) (individual) [SDNT]

PINZON CEDIEL, John Jairo, c/o TAURA S.A., Cali, Colombia; Cedula No. 13542103 (Colombia) (individual) [SDNT]

RAMIREZ ESCUDERO, Pedro Emilio, Calle 6A No. 48-36, Cali, Colombia; c/o GALAPAGOS S.A., Cali, Colombia; Cedula No. 16280602 (Colombia) (individual) [SDNT]

ROMAN DOMINGUEZ, Erika, c/o TAURA S.A., Cali, Colombia; Cedula No. 66955540 (Colombia) (individual) [SDNT]

SARMIENTO MARTINEZ, Diana, c/o TAURA S.A., Cali, Colombia; Cedula No. 65698369 (Colombia) (individual) [SDNT]

TAURA S.A., Calle 13 No. 68-06, Of. 204, Cali, Colombia; Calle 13 No. 68-26, Of. 214, 313 & 314, Cali, Colombia; Carrera 115 No. 16B-121, Cali, Colombia; NIT # 800183713-1 (Colombia) [SDNT]

VILLADA ZUNIGA, Elmer, Calle 15 No. 20-10, Cali, Colombia; c/o TAURA S.A., Cali, Colombia; Cedula No. 14988902 (Colombia) (individual) [SDNT]

ZAMORA RUIZ, Alexander, c/o INPESCA S.A., Buenaventura, Colombia; Cedula No. 16498805 (Colombia) (individual) [SDNT]

2. Appendix A to 31 CFR chapter V is amended by removing the following entry:

WITTGREEN, Carlos (a.k.a. Carlos WITTGREEN Antinori; a.k.a. Carlos WITTGREEN A.; a.k.a. Carlos Antonio WITTGREEN), Panama (individual) [CUBA]

Dated: April 24, 2001.
R. Richard Newcomb,
Director, Office of Foreign Assets Control.
Approved: April 27, 2001.
James Sloan,
Acting Assistant Secretary (Enforcement), Department of the Treasury.

[FR Doc. 01-13451 Filed 5-23-01; 4:32 pm]

BILLING CODE 4810-25-P